DEPARTMENT OF ENERGY

Federal Energy Regulatory Commission

[Docket No. ER03-513-004, et al.]

Sithe Edgar LLC, et al.; Electric Rate and Corporate Filings

March 18, 2003.

The following filings have been made with the Commission. The filings are listed in ascending order within each docket classification.

1. Sithe Edgar LLC., Sithe Framingham LLC., Sithe Mystic LLC., Sithe New Boston LLC., Sithe West Medway LLC., Sithe Wyman LLC., AG-Energy, L.P., Power City Partners, L.P., Seneca Power Partners, L.P., and Sterling Power Partners, L.P.

[Docket No. ER01-513-004]

Take notice that on March 12, 2003, Sithe Edgar LLC, Sithe Framingham LLC, Sithe Mystic LLC, Sithe New Boston LLC, Sithe West Medway LLC, Sithe Wyman LLC, AG-Energy, L.P., Power City Partners, L.P., Seneca Power Partners, L.P., Sterling Power Partners, L.P., (the Project Companies) submitted revised tariff sheets to conform the rate schedule designations with the requirements of Order No. 614, and to reflect the changes in ownership and the changes in names of certain of these entities.

Comment Date: April 2, 2003.

2. Virginia Electric and Power Company

[Docket No. ER03-383-002]

Take notice that on March 14, 2003, Virginia Electric and Power Company, doing business as Dominion Virginia Power, tendered for filing a First Substitute First Revised Generator Interconnection and Operating Agreement (Revised Interconnection Agreement) with Old Dominion Electric Cooperative (ODEC) revising certain provisions.

Dominion Virginia Power respectfully requests that the Commission allow the Revised Interconnection Agreement to become effective February 1, 2003, as previously requested.

Virginia Electric and Power Company states that copies of the filing were served upon ODEC and the Virginia State Corporation Commission.

Comment Date: April 4, 2003.

3. Oklahoma Gas & Electric Company

[Docket No. ER03-480-001]

Take notice that on March 14, 2003, Oklahoma Gas & Electric Company (OGE), submitted for filing, cost support for the charges outlined in the Delivery Point and Transmission Interconnection Agreement (Agreement) between OGE and the City of Paris, Arkansas filed on January 31, 2003. In addition, OGE provided further background regarding the Agreement.

Comment Date: April 4, 2003]

4. Virginia Electric and Power Company

[Docket No. ER03-554-001]

Take notice that on March 14, 2003, Virginia Electric and Power Company (Dominion Virginia Power) tendered for filing a Substitute Generator Interconnection and Operating Agreement between Dominion Virginia Power and Industrial Power Generating Corporation (Ingenco) revising certain provisions.

Dominion Virginia Power requests that the Commission waive its notice of filing requirements and accept this filing to make the Interconnection Agreement effective on February 25, 2003, as previously requested.

Dominion Virginia Power states that copies of the filing were served upon Ingenco and the Virginia State Corporation Commission.

Comment Date: April 4, 2003.

5. Wisconsin Public Service Corporation

[Docket No. ER03-612-000]

Take notice that on March 12, 2003, Wisconsin Public Service Corporation (WPSC) tendered for filing Third Revised Service Agreement No. 11 (Revised Service Agreement) between WPSC and Upper Peninsula Power Company (UPPCo) under WPSC's FERC Electric Tariff, Third Revised Volume No. 1.

WPSC requests that the Commission allow the Service Agreement to become effective as of May 12, 2003, which is 60 days after filing.

WPSC states that a copy of the filing was served upon UPPCo , the Public Service Commission of Wisconsin, and the Michigan Public Service Commission.

Comment Date: April 2, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov , using the “FERRIS” link. Enter the docket number excluding the last three digits in the docket number filed to access the document. For assistance, contact FERC Online Support at FERCOnlineSupport@ferc.gov or toll-free at (866) 208-3676, or for TTY, contact (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-7038 Filed 3-24-03; 8:45 am]

BILLING CODE 6717-01-P